NUCLEAR REGULATORY COMMISSION

[Docket No. 72-71-EA; ASLBP No. 09-888-03-EA-BD01]

Detroit Edison Company; Corrected Notice of Establishment of Atomic Safety and Licensing Board

On May 15, 2009, the Atomic Safety and Licensing Board Panel issued a notice of Establishment of Atomic Safety and Licensing Board for Detroit Edison Company, Fermi Power Plant (Independent Spent Fuel Storage Installation), which incorrectly identified the docket number as 72-7-EA. The correct docket number is 72-71-EA. All other information given in the original Board Establishment Notice remains the same, and is repeated below.

Pursuant to delegation by the Commission dated December 29, 1972 (37 FR 28,710), and the Commission's regulations, see 10 CFR 2.106, 2.300, 2.313(a), and 2.318, notice is hereby given that an Atomic Safety and Licensing Board (Board) is being established to preside over the following proceeding: Detroit Edison Company, Fermi Power Plant, (Independent Spent Fuel Storage Installation).

This proceeding concerns a Petition to Intervene dated May 7, 2009 from Beyond Nuclear, et al., that was submitted in response to an April 17, 2009 notice issued by the NRC Staff that provided the Issuance of Order for Implementation of Additional Security Measures and Fingerprinting for Unescorted Access to Detroit Edison Company (74 FR 17,890).

The Board is comprised of the following administrative judges:

Ronald M. Spritzer, Chair, Atomic Safety and Licensing Board Panel, U.S. Nuclear Regulatory Commission, Washington, DC 20555-0001.

Michael F. Kennedy, Atomic Safety and Licensing Board Panel, U.S. Nuclear Regulatory Commission, Washington, DC 20555-0001.

Randall J. Charbeneau, Atomic Safety and Licensing Board Panel, U.S. Nuclear Regulatory Commission, Washington, DC 20555-0001.

All correspondence, documents, and other materials shall be filed in accordance with the NRC E-Filing Rule, which the NRC promulgated in August 2007 (72 FR 49,139).

Issued at Rockville, Maryland, this 20th day of May 2009.
E. Roy Hawkens,
Chief Administrative Judge, Atomic Safety and Licensing Board Panel.

[FR Doc. E9-12279 Filed 5-26-09; 8:45 am]

BILLING CODE 7590-01-P